DEPARTMENT OF HOMELAND SECURITY

U.S. Citizenship and Immigration Services

[CIS No. 2649-20]

RIN 1615-ZB72

Extension of the Designation of Syria for Temporary Protected Status

AGENCY: U.S. Citizenship and Immigration Services, Department of Homeland Security.

ACTION: Notice.

SUMMARY: Through this Notice, the Department of Homeland Security (DHS) announces that the Secretary of Homeland Security (Secretary) is extending the designation of Syria for Temporary Protected Status (TPS) for 18 months, from October 1, 2019, through March 31, 2021. The extension allows currently eligible TPS beneficiaries to retain TPS through March 31, 2021, so long as they otherwise continue to meet the eligibility requirements for TPS.

This Notice also sets forth procedures necessary for nationals of Syria (or aliens having no nationality who last habitually resided in Syria) to re-register for TPS and to apply for Employment Authorization Documents (EADs) with U.S. Citizenship and Immigration Services (USCIS). USCIS will issue new EADs with a March 31, 2021 expiration date to eligible beneficiaries under Syria's TPS designation who timely re-register and apply for EADs under this extension.

DATES: Extension of Designation of Syria for TPS: The 18-month extension of the TPS designation of Syria is effective October 1, 2019, and will remain in effect through March 31, 2021. The 60-day re-registration period runs from September 23, 2019 through November 22, 2019. (Note: It is important for re-registrants to timely re-register during this 60-day period and not to wait until their EADs expire.)

FOR FURTHER INFORMATION CONTACT:

• You may contact Samantha Deshommes, Branch Chief, Regulatory Coordination Division, Office of Policy and Strategy, U.S. Citizenship and Immigration Services, U.S. Department of Homeland Security, by mail at 20 Massachusetts Avenue NW, Washington, DC 20529-2060, or by phone at 800-375-5283.

• For further information on TPS, including guidance on the re-registration process and additional information on eligibility, please visit the USCIS TPS web page at http://www.uscis.gov/tps. You can find specific information about this extension of Syria's TPS designation by selecting “Syria” from the menu on the left side of the TPS web page.

• If you have additional questions about TPS, please visit uscis.gov/tools. Our online virtual assistant, Emma, can answer many of your questions and point you to additional information on our website. If you are unable to find your answers there, you may also call our USCIS Contact Center at 800-375-5283.

• Applicants seeking information about the status of their individual cases may check Case Status Online, available on the USCIS website at http://www.uscis.gov, or call the USCIS Contact Center at 800-375-5283 (TTY 800-767-1833).

• Further information will also be available at local USCIS offices upon publication of this Notice.

SUPPLEMENTARY INFORMATION:

Table of Abbreviations

BIA—Board of Immigration Appeals

CFR—Code of Federal Regulations

DHS—U.S. Department of Homeland Security

DOS—U.S. Department of State

EAD—Employment Authorization Document

FNC—Final Nonconfirmation

FR—Federal Register

Government—U.S. Government

IJ—Immigration Judge

INA—Immigration and Nationality Act

IER—U.S. Department of Justice Civil Rights Division, Immigrant and Employee Rights Section

SAVE—USCIS Systematic Alien Verification for Entitlements Program

Secretary—Secretary of Homeland Security

TNC—Tentative Nonconfirmation

TPS—Temporary Protected Status

TTY—Text Telephone

USCIS—U.S. Citizenship and Immigration Services

U.S.C.—United States Code

Through this Notice, DHS sets forth procedures necessary for eligible nationals of Syria (or aliens having no nationality who last habitually resided in Syria) to re-register for TPS and to apply for renewal of their EADs with USCIS. Re-registration is limited to persons who have previously registered for TPS under the designation of Syria and whose applications have been granted.

For individuals who have already been granted TPS under Syria's designation, the 60-day re-registration period runs from September 23, 2019 through November 22, 2019. USCIS will issue new EADs with a March 31, 2021 expiration date to eligible Syrian TPS beneficiaries who timely re-register and apply for EADs. Given the timeframes involved with processing TPS re-registration applications, DHS recognizes that all re-registrants may not receive new EADs before their current EADs expire on September 30, 2019. Accordingly, through this Federal Register Notice, DHS automatically extends the validity of EADs issued under the TPS designation of Syria for 180 days, through March 28, 2020. Additionally, individuals who have EADs with an expiration date of March 31, 2018, and who applied for a new EAD during the last re-registration period but have not yet received their new EADs are also covered by this automatic extension. These individuals may show their EAD indicating a March 31, 2018, expiration date and their EAD application receipt (Notice of Action, Form I-797C) that notes the application was received on or after March 5, 2018, to employers as proof of continued employment authorization through March 28, 2020. This Notice explains how TPS beneficiaries and their employers may determine which EADs are automatically extended and how this affects the Form I-9, Employment Eligibility Verification, E-Verify, and USCIS Systematic Alien Verification for Entitlements (SAVE) processes.

Individuals who have a Syria TPS Form I-821 and/or Form I-765 that was still pending as of September 23, 2019 do not need to file either application again. If the TPS application is approved, the individual will be granted TPS through March 31, 2021. Similarly, if a pending TPS-related application for an EAD is approved, it will be valid through the same date. There are approximately 7,000 current beneficiaries under Syria's TPS designation.

What is temporary protected status (TPS)?

• TPS is a temporary immigration status granted to eligible nationals of a country designated for TPS under the INA, or to eligible persons without nationality who last habitually resided in the designated country.

• During the TPS designation period, TPS beneficiaries are eligible to remain in the United States, may not be removed, and are authorized to obtain EADs so long as they continue to meet the requirements of TPS.

• TPS beneficiaries may also apply for and be granted travel authorization as a matter of discretion.

• The granting of TPS does not result in or lead to lawful permanent resident status.

• To qualify for TPS, beneficiaries must meet the eligibility standards at INA section 244(c)(1)-(2), 8 U.S.C. 1254a(c)(1)-(2).

• When the Secretary terminates a country's TPS designation, beneficiaries return to one of the following:

○ The same immigration status or category that they maintained before TPS, if any (unless that status or category has since expired or been terminated); or

○ Any other lawfully obtained immigration status or category they received while registered for TPS, as long as it is still valid beyond the date TPS terminates.

When was Syria designated for TPS?

Former Secretary of Homeland Security Napolitano initially designated Syria for TPS on March 29, 2012, based on extraordinary and temporary conditions resulting from the Syrian military's violent suppression of opposition to President Bashar al-Assad's regime that prevented Syrian nationals from safely returning to Syria. See Designation of Syrian Arab Republic for Temporary Protected Status, 77 FR 19026 (Mar. 29, 2012). Following the initial designation, former Secretaries Napolitano and Johnson extended and newly designated Syria for TPS three times. In 2016, former Secretary Johnson both extended Syria's designation and newly designated Syria for TPS for 18 months through March 30, 2018. See Extension and Redesignation of Syria for Temporary Protected Status, 81 FR 50533 (Aug. 1, 2016). Most recently, in 2018, former Secretary Nielsen extended Syria's designation for 18 months, though September 30, 2019. See Extension of the Designation of Syria for Temporary Protected Status, 83 FR 9329 (March 5, 2018).

What authority does the Secretary have to extend the designation of Syria for TPS?

Section 244(b)(1) of the INA, 8 U.S.C. 1254a(b)(1), authorizes the Secretary, after consultation with appropriate agencies of the U.S. Government (Government), to designate a foreign state (or part thereof) for TPS if the Secretary determines that certain country conditions exist.¹ The decision to designate any foreign state (or part thereof) is a discretionary decision, and there is no judicial review of any determination with respect to the designation, or termination of or extension of a designation. The Secretary, in his discretion, may then grant TPS to eligible nationals of that foreign state (or eligible aliens having no nationality who last habitually resided in the designated country). See INA section 244(a)(1)(A), 8 U.S.C. 1254a(a)(1)(A).

¹ As of March 1, 2003, in accordance with section 1517 of title XV of the Homeland Security Act of 2002, Public Law 107-296, 116 Stat. 2135, any reference to the Attorney General in a provision of the INA describing functions transferred from the Department of Justice to DHS “shall be deemed to refer to the Secretary” of Homeland Security. See 6 U.S.C. 557 (codifying the Homeland Security Act of 2002, tit. XV, section 1517).

At least 60 days before the expiration of a country's TPS designation or extension, the Secretary, after consultation with appropriate Government agencies, must review the conditions in the foreign state designated for TPS to determine whether the conditions for the TPS designation continue to be met. See INA section 244(b)(3)(A), 8 U.S.C. 1254a(b)(3)(A). If the Secretary does not determine that the foreign state no longer meets the conditions for TPS designation, the designation will be extended for an additional period of 6 months or, in the Secretary's discretion, 12 or 18 months. See INA section 244(b)(3)(A), (C), 8 U.S.C. 1254a(b)(3)(A), (C). If the Secretary determines that the foreign state no longer meets the conditions for TPS designation, the Secretary must terminate the designation. See INA section 244(b)(3)(B), 8 U.S.C. 1254a(b)(3)(B).

Why is the Secretary extending the TPS designation for Syria through March 31, 2021?

DHS has reviewed conditions in Syria. Based on the review, including input received from other U.S. Government agencies, the Secretary has determined that an 18-month extension is warranted because the ongoing armed conflict and extraordinary and temporary conditions supporting Syria's TPS designation remain.

Syria remains engulfed in an ongoing civil war marked by brutal violence against civilians, egregious human rights violations and abuses, and a humanitarian disaster on a devastating scale across the country. The Syrian Arab Republic Government (SARG) continues to arbitrarily and unlawfully kill, torture, and detain civilians on a large scale, and non-state armed groups of varying ideologies exert control over civilians in wide areas of the country. The SARG, with the support of government-linked paramilitary groups, Iranian and Iranian-backed proxy forces, and Russian forces, continues to engage in hostilities with Syrian opposition forces. In addition, following its incursion into northern Syria in early 2018, the Turkish military and Turkish-backed groups continue to fight the Kurdish People's Protection Units (YPG). Following the defeat of the self-described Islamic State of Iraq and Syria (ISIS) in March 2019, ISIS sleeper cells have stepped up insurgency operations in cities controlled by the Syrian Democratic Forces (SDF). On January 16, 2019, a suicide bombing claimed by ISIS killed four Americans and 15 others in the northern city of Manbij, in Aleppo province. One week later, a vehicle-borne improvised explosive device targeted a joint American-SDF patrol in the town of Ash Shaddadi in Hasakah province. At least 10 people were killed June 1, 2019, in ISIS attacks in Raqqa. Despite a September 2018 agreement between Russia and Turkey that designated Idlib province and surrounding areas a demilitarized zone, non-state armed organizations, including designated terrorist groups, have continued to fight each other within the zone. In January 2019, Hayat Tahrir Al-Sham (HTS) seized large areas of Idlib from rival armed groups, constituting a significant threat to Syrian civilians in the country's northwest and northeast, as well as Syrian refugees residing across the adjacent Turkish border. Since April 2019, a renewed SARG offensive is exacting a heavy toll on civilians and civilian infrastructure in the area. The renewed violence has displaced over 630,000 civilians, and killed at least 1,089 civilians, including many children.

Currently, 11.9 million Syrians are displaced in or outside of Syria, of which 6.2 million are Internally Displaced Persons (IDPs) and 5.7 million are UNHCR-registered refugees. Of the country's 23 million people, 11.7 million require humanitarian assistance. Approximately 1.6 million Syrians were displaced by hostilities in 2018, and the overall IDP population increased 16% in 2018. Syria hosted approximately 482,200 refugees during the same time period. Additionally, 1.4 million Syrian IDPs voluntarily returned to their home areas in 2018. Just over 56,047 refugees returned to Syria in 2018, and as of March 2019, 21,575 had returned. Despite the significant number of spontaneous refugee and IDP returns in 2018 and 2019, the United Nations High Commissioner for Refugees (UNHCR) assessed in February 2019 that “present conditions in Syria are not conducive for voluntary repatriation in safety and dignity as significant risks remain for civilians across the country.”

Syria's economy has significantly deteriorated since the outbreak of conflict in 2011, with economic output declining by more than 70% from 2011 to 2017, the most recent year for which confirmed economic data is available. Eight in ten Syrians live below the poverty line. Syria ranks last in the CIA World Factbook's survey of 224 countries in real annual Gross Domestic Product (GDP) growth rate, and 194th in GDP per capita.

Civilian health needs remain critical in Syria due to the ongoing conflict, and access to medical care is limited. Hundreds of thousands of civilians have suffered injuries, of which 45% are expected to sustain permanent impairment and require lifelong medical attention. As of March 2019, 46% of Syrian healthcare facilities are either partially functional or not functional, and 167 have been completely destroyed. Mass displacement has contributed to a reduction of up to 50% of qualified medical personnel in some areas, further compromising the provision of quality medical assistance. The SARG continues to attack healthcare personnel and infrastructure, with the United Nations reporting 142 confirmed attacks on healthcare personnel, facilities, supplies, patients, warehouses, and transport in 2018.

As of April 2019, 9 million people in Syria required food assistance, including 6.5 million people facing life-threatening food insecurity. Notwithstanding the ongoing challenges, food security increased in some areas in 2018 due to improvements in overall market accessibility and increased response efforts.

Based upon this review and after consultation with appropriate Government agencies, the Secretary has determined that:

• The conditions supporting Syria's designation for TPS continue to be met. See INA section 244(b)(3)(A) and (C), 8 U.S.C. 1254a(b)(3)(A) and (C).

• There continues to be an ongoing armed conflict in Syria and, due to such conflict, requiring the return to Syria of Syrian nationals (or aliens having no nationality who last habitually resided in Syria) would pose a serious threat to their personal safety. See INA section 244(b)(1)(A), 8 U.S.C. 1254a(b)(1)(A).

• There continue to be extraordinary and temporary conditions in Syria that prevent Syrian nationals (or aliens having no nationality who last habitually resided in Syria) from returning to Syria in safety, and it is not contrary to the national interest of the United States to permit Syrian TPS beneficiaries to remain in the United States temporarily. See INA section 244(b)(1)(C), 8 U.S.C. 1254a(b)(1)(C).

• The designation of Syria for TPS should be extended for an 18-month period, from October 1, 2019 through March 31, 2021. See INA section 244(b)(3)(C), 8 U.S.C. 1254a(b)(3)(C).

Notice of Extension of the TPS Designation of Syria

By the authority vested in me as Secretary under INA section 244, 8 U.S.C. 1254a, I have determined, after consultation with the appropriate Government agencies, the conditions supporting Syria's designation for TPS continue to be met. See INA section 244(b)(3)(A), 8 U.S.C. 1254a(b)(3)(A). On the basis of this determination, I am extending the existing designation of TPS for Syria for 18 months, from October 1, 2019, through March 31, 2021. See INA section 244(b)(1)(A), (b)(1)(C); 8 U.S.C. 1254a(b)(1)(A), (b)(1)(C).

Kevin McAleenan,
Acting Secretary.

Required Application Forms and Application Fees To Re-register for TPS

To re-register for TPS based on the designation of Syria, you must submit an Application for Temporary Protected Status (Form I-821). You do not need to pay the filing fee for the Form I-821. See 8 CFR 244.17. You may be required to pay the biometric services fee. Please see additional information under the “Biometric Services Fee” section of this Notice.

Through this Federal Register Notice, your existing EAD issued under the TPS designation of Syria with the expiration date of September 30, 2019, is automatically extended for 180 days, through March 28, 2020. Although not required to do so, if you want to obtain a new EAD valid through March 31, 2021, you must file an Application for Employment Authorization (Form I-765) and pay the Form I-765 fee (or request a fee waiver). If you do not want a new EAD, you do not have to file Form I-765 and pay the Form I-765 fee. If you do not want to request a new EAD now, you may also file Form I-765 at a later date and pay the fee (or request a fee waiver), provided that you still have TPS or a pending TPS application.

Additionally, individuals who have EADs with an expiration date of March 31, 2018, and who applied for a new EAD during the last re-registration period but have not yet received their new EADs are also covered by this automatic EAD extension through March 28, 2020. You do not need to apply for a new EAD in order to benefit from this 180-day automatic extension. If you have a Form I-821 and/or Form I-765 that was still pending as of September 23, 2019, then you do not need to file either application again. If your pending TPS application is approved, you will be granted TPS through March 31, 2021. Similarly, if you have a pending TPS-related application for an EAD that is approved, it will be valid through the same date.

You may file the application for a new EAD either prior to or after your current EAD has expired. However, you are strongly encouraged to file your application for a new EAD as early as possible to avoid gaps in the validity of your employment authorization documentation and to ensure that you receive your new EAD by March 28, 2020.

For more information on the application forms and fees for TPS, please visit the USCIS TPS web page at http://www.uscis.gov/tps. Fees for the Form I-821, the Form I-765, and biometric services are also described in 8 CFR 103.7(b)(1)(i).

Biometric Services Fee

Biometrics (such as fingerprints) are required for all applicants 14 years of age and older. Those applicants must submit a biometric services fee. As previously stated, if you are unable to pay the biometric services fee, you may complete a Form I-912 or submit a personal letter requesting a fee waiver, with satisfactory supporting documentation. For more information on the biometric services fee, please visit the USCIS website at http://www.uscis.gov. If necessary, you may be required to visit an Application Support Center to have your biometrics captured. For additional information on the USCIS biometrics screening process, please see the USCIS Customer Profile Management Service Privacy Impact Assessment, available at www.dhs.gov/privacy.

Refiling a TPS Re-Registration Application After Receiving a Denial of a Fee Waiver Request

You should file as soon as possible within the 60-day re-registration period so USCIS can process your application and issue any EAD promptly. Properly filing early will also allow you to have time to refile your application before the deadline, should USCIS deny your fee waiver request. If, however, you receive a denial of your fee waiver request and are unable to refile by the re-registration deadline, you may still refile your Form I-821 with the biometrics fee. This situation will be reviewed to determine whether you established good cause for late TPS re-registration. However, you are urged to refile within 45 days of the date on any USCIS fee waiver denial notice, if possible. See INA section 244(c)(3)(C); 8 U.S.C. 1254a(c)(3)(C); 8 CFR 244.17(b). For more information on good cause for late re-registration, visit the USCIS TPS web page at http://www.uscis.gov/tps. Following denial of your fee waiver request, you may also refile your Form I-765 with fee either with your Form I-821 or at a later time, if you choose.

Note: Although a re-registering TPS beneficiary age 14 and older must pay the biometric services fee (but not the Form I-821 fee) when filing a TPS re-registration application, you may decide to wait to request an EAD. Therefore, you do not have to file the Form I-765 or pay the associated Form I-765 fee (or request a fee waiver) at the time of re-registration, and could wait to seek an EAD until after USCIS has approved your TPS re-registration application. If you choose to do this, to re-register for TPS you would only need to file the Form I-821 with the biometrics services fee, if applicable, (or request a fee waiver).

Mailing Information

Mail your application for TPS to the proper address in Table 1.

Table 1—Mailing Addresses
If you would like to send your application by: | Then, mail your application to:
U.S. Postal Service | U.S. Citizenship and Immigration Services, Attn: TPS Syria, P.O. Box 6943, Chicago, IL 60680-6943.
A non-U.S. Postal Service courier | U.S. Citizenship and Immigration Services, Attn: TPS Syria, 131 S Dearborn Street—3rd Floor, Chicago, IL 60603-5517.

If you were granted TPS by an Immigration Judge (IJ) or the Board of Immigration Appeals (BIA) and you wish to request an EAD or are re-registering for the first time following a grant of TPS by an IJ or the BIA, please mail your application to the appropriate mailing address in Table 1. When re-registering and requesting an EAD based on an IJ/BIA grant of TPS, please include a copy of the IJ or BIA order granting you TPS with your application. This will help us to verify your grant of TPS and process your application.

Supporting Documents

The filing instructions on the Form I-821 list all the documents needed to establish eligibility for TPS. You may also find information on the acceptable documentation and other requirements for applying or registering for TPS on the USCIS website at www.uscis.gov/tps under “Syria.”

Employment Authorization Document (EAD)

How can I obtain information on the status of my EAD request?

To get case status information about your TPS application, including the status of an EAD request, you can check Case Status Online at http://www.uscis.gov, or call the USCIS National Contact Center at 800-375-5283 (TTY 800-767-1833). If your Form I-765 has been pending for more than 90 days, and you still need assistance, you may request an EAD inquiry appointment with USCIS by using the InfoPass system at https://infopass.uscis.gov. However, we strongly encourage you first to check Case Status Online or call the USCIS National Contact Center for assistance before making an InfoPass appointment.

Am I eligible to receive an automatic 180-day extension of my current EAD through March 28, 2020, using this Federal Register Notice?

Yes. Provided that you currently have a Syria TPS-based EAD, this Federal Register Notice automatically extends your EAD through March 28, 2020, if you:

• Are a national of Syria (or an alien having no nationality who last habitually resided in Syria); and either

• Have an EAD with a marked expiration date of September 30, 2019, bearing the notation A-12 or C-19 on the face of the card under Category, or

• Have an EAD with a marked expiration date of March 31, 2018 bearing the notation A-12 or C-19 on the face of the card under Category and you applied for a new EAD during the last re-registration period but have not yet received a new EAD.

Although this Federal Register Notice automatically extends your EAD through March 28, 2020, you must re-register timely for TPS in accordance with the procedures described in this Federal Register Notice if you would like to maintain your TPS.

When hired, what documentation may I show to my employer as evidence of employment authorization and identity when completing Employment Eligibility Verification (Form I-9)?

You can find the Lists of Acceptable Documents on the “Acceptable Documents” web page for Form I-9 at https://www.uscis.gov/i-9-central/acceptable-documents. Employers must complete Form I-9 to verify the identity and employment authorization of all new employees. Within three days of hire, employees must present acceptable documents to their employers as evidence of identity and employment authorization to satisfy Form I-9 requirements.

You may present any document from List A (which provides evidence of both identity and employment authorization), or one document from List B (which provides evidence of your identity) together with one document from List C (which provides evidence of employment authorization), or you may present an acceptable receipt for List A, List B, or List C documents as described in the Form I-9 instructions. Employers may not reject a document based on a future expiration date. You can find additional information about Form I-9 on the I-9 Central web page at http://www.uscis.gov/I-9Central.

An EAD is an acceptable document under List A. If your EAD has an expiration date of September 30, 2019, or March 31, 2018 (and you applied for a new EAD during the last re-registration period but have not yet received a new EAD), and states A-12 or C-19 under Category, it has been extended automatically by virtue of this Federal Register Notice and you may choose to present your EAD to your employer as proof of identity and employment eligibility for Form I-9 through March 28, 2020, unless your TPS has been withdrawn or your request for TPS has been denied. If you have an EAD with a marked expiration date of September 30, 2019, that states A-12 or C-19 under Category, and you properly filed for a new EAD in accordance with this Notice, you will also receive Form I-797C, Notice of Action that will state your EAD is automatically extended for 180 days. You may choose to present your EAD to your employer together with this Form I-797C as a List A document that provides evidence of your identity and employment authorization for Form I-9 through March 28, 2020, unless your TPS has been withdrawn or your request for TPS has been denied. See the subsection titled, “How do my employer and I complete the Employment Eligibility Verification (Form I-9) using my automatically extended employment authorization for a new job?” for further information.

To reduce confusion over this extension at the time of hire, you should explain to your employer that your EAD has been automatically extended through March 28, 2020. You may also provide your employer with a copy of this Federal Register Notice, which explains that your EAD has been automatically extended. As an alternative to presenting evidence of your automatically extended EAD, you may choose to present any other acceptable document from List A, a combination of one selection from List B and one selection from List C, or a valid receipt.

What documentation may I present to my employer for Employment Eligibility Verification (Form I-9) if I am already employed but my current TPS-related EAD is set to expire?

Even though your EAD has been automatically extended, your employer is required by law to ask you about your continued employment authorization no later than before you start work on October 1, 2019. You will need to present your employer with evidence that you are still authorized to work. Once presented, your employer should note the automatic extension date from this Federal Register Notice in the Additional Information field in Section 2 of Form I-9. See the subsection titled, “What updates should my current employer make to Employment Eligibility Verification (Form I-9) if my employment authorization has been automatically extended?” for further information. You may show this Federal Register Notice to your employer to explain what to do for Form I-9 and to show that your EAD has been automatically extended through March 28, 2020. Your employer may need to re-inspect your automatically extended EAD to check the Card Expires date and Category code if your employer did not keep a copy of this EAD when you initially presented it. In addition, if you have an EAD with a marked expiration date of September 30, 2019 that states A-12 or C-19 under Category, and you properly filed your Form I-765 to obtain a new EAD, you will receive a Form I-797C, Notice of Action. Form I-797C will state that your EAD is automatically extended for up to 180 days. You may present Form I-797C to your employer along with your EAD to confirm that the validity of your EAD has been automatically extended through March 28, 2020, unless your TPS has been withdrawn or your request for TPS has been denied. To reduce the possibility of gaps in your employment authorization documentation, you should file your Form I-765 to request a new EAD as early as possible during the re-registration period.

The last day of the automatic EAD extension is March 28, 2020. Before you start work on March 29, 2020, your employer must reverify your employment authorization in Section 3 of Form I-9, using the most current version available at http://www.uscis.gov/I-9. At that time, you must present any document from List A or any document from List C on Form I-9 Lists of Acceptable Documents, or an acceptable List A or List C receipt described in the Form I-9 instructions to reverify employment authorization.

Note that your employer may not specify which List A or List C document you must present and cannot reject an acceptable receipt.

Can my employer require that I provide any other documentation to prove my status, such as proof of my Syrian citizenship?

No. When completing Form I-9, including reverifying employment authorization, employers must accept any documentation that appears on the Form I-9 “Lists of Acceptable Documents” that reasonably appears to be genuine and that relates to you, or an acceptable List A, List B, or List C receipt. Employers need not reverify List B identity documents. Employers may not request documentation that does not appear on the “Lists of Acceptable Documents.” Therefore, employers may not request proof of Syrian citizenship or proof of re-registration for TPS when completing Form I-9 for new hires or reverifying the employment authorization of current employees. If you present an EAD that has been automatically extended, employers should accept it as a valid List A document so long as the EAD reasonably appears to be genuine and relates to you. Refer to the Note to Employees section of this Federal Register Notice for important information about your rights if your employer rejects lawful documentation, requires additional documentation, or otherwise discriminates against you based on your citizenship or immigration status, or your national origin.

How do my employer and I complete Employment Eligibility Verification (Form I-9) using my automatically extended employment authorization for a new job?

When using an automatically extended EAD to complete Form I-9 for a new job before March 29, 2020, you and your employer should do the following:

1. For Section 1, you should:

a. Check “An alien authorized to work until” and enter March 28, 2020 as the “expiration date”; and

b. Enter your Alien Number/USCIS number or A-Number where indicated (your EAD or other document from DHS will have your USCIS number or A-Number printed on it; the USCIS number is the same as your A-Number without the A prefix).

2. For Section 2, employers should:

a. Determine if the EAD is auto-extended by ensuring it is in category A-12 or C-19 and has a September 30, 2019, expiration date (or March 31, 2018 expiration date provided the employee applied for a new EAD during the last re-registration period but has not yet received a new EAD);

b. Write in the document title;

c. Enter the issuing authority;

d. Enter either the employee's Alien Registration number or USCIS number from Section 1 in the Document Number field on Form I-9; and

e. Write March 28, 2020, as the expiration date.

Before the start of work on March 29, 2020, employers must reverify the employee's employment authorization in Section 3 of Form I-9.

What updates should my current employer make to Employment Eligibility Verification (Form I-9) if my employment authorization has been automatically extended?

If you presented a TPS-related EAD that was valid when you first started your job and your EAD has now been automatically extended, your employer may need to re-inspect your current EAD if they do not have a copy of the EAD on file. Your employer should update Section 2 of your previously completed Form I-9 as follows:

1. Determine if the EAD is auto-extended by ensuring:

a. It contains Category A-12 or C-19; and

b. Has a Card Expires date of September 30, 2019, or March 31, 2018 if the employee applied for a new EAD during the last re-registration period but has not yet received a new EAD.

2. Enter EAD EXT and March 28, 2020 in the Additional Information field; and

3. Initial and date the update.

Note: This is not considered a reverification. Employers do not need to complete Section 3 until either the 180-day automatic extension has ended or the employee presents a new document to show continued employment authorization, whichever is sooner. By March 29, 2020, when the employee's automatically extended EAD has expired, employers must reverify the employee's employment authorization in Section 3.

If I am an employer enrolled in E-Verify, how do I verify a new employee whose EAD has been automatically extended?

Employers may create a case in E-Verify for these employees by entering the number from the Document Number field on Form I-9 into the document number field in E-Verify.

If I am an employer enrolled in E-Verify, what do I do when I receive a “Work Authorization Documents Expiration” alert for an automatically extended EAD?

E-Verify automated the verification process for TPS-related EADs that are automatically extended. If you have employees who provided a TPS-related EAD when they first started working for you, you will receive a “Work Authorization Documents Expiring” case alert when the auto-extension period for this EAD is about to expire. Before March 29, 2020, you must reverify his or her employment authorization in Section 3 of Form I-9. Employers should not use E-Verify for reverification.

Note to All Employers

Employers are reminded that the laws requiring proper employment eligibility verification and prohibiting unfair immigration-related employment practices remain in full force. This Federal Register Notice does not supersede or in any way limit applicable employment verification rules and policy guidance, including those rules setting forth reverification requirements. For general questions about the employment eligibility verification process, employers may call USCIS at 888-464-4218 (TTY 877-875-6028) or email USCIS at I9Central@dhs.gov. Calls and emails are accepted in English and many other languages. For questions about avoiding discrimination during the employment eligibility verification process (Form I-9 and E-Verify), employers may call the U.S. Department of Justice's Civil Rights Division, Immigrant and Employee Rights Section (IER) Employer Hotline at 800-255-8155 (TTY 800-237-2515). IER offers language interpretation in numerous languages. Employers may also email IER at IER@usdoj.gov.

Note to Employees

For general questions about the employment eligibility verification process, employees may call USCIS at 888-897-7781 (TTY 877-875-6028) or email USCIS at I-9Central@dhs.gov. Calls are accepted in English, Spanish, and many other languages. Employees or applicants may also call the IER Worker Hotline at 800-255-7688 (TTY 800-237-2515) for information regarding employment discrimination based upon citizenship, immigration status, or national origin, including discrimination related to Employment Eligibility Verification (Form I-9) and E-Verify. The IER Worker Hotline provides language interpretation in numerous languages.

To comply with the law, employers must accept any document or combination of documents from the Lists of Acceptable Documents if the documentation reasonably appears to be genuine and to relate to the employee, or an acceptable List A, List B, or List C receipt as described in the Employment Eligibility Verification (Form I-9) Instructions. Employers may not require extra or additional documentation beyond what is required for Form I-9 completion. Further, employers participating in E-Verify who receive an E-Verify case result of “Tentative Nonconfirmation” (TNC) must promptly inform employees of the TNC and give such employees an opportunity to contest the TNC. A TNC case result means that the information entered into E-Verify from an employee's Form I-9 differs from Federal or state government records.

Employers may not terminate, suspend, delay training, withhold pay, lower pay, or take any adverse action against an employee because of the TNC while the case is still pending with E-Verify. A Final Nonconfirmation (FNC) case result is received when E-Verify cannot verify an employee's employment eligibility. An employer may terminate employment based on a case result of FNC. Work-authorized employees who receive an FNC may call USCIS for assistance at 888-897-7781 (TTY 877-875-6028). For more information about E-Verify-related discrimination or to report an employer for discrimination in the E-Verify process based on citizenship, immigration status, or national origin, contact IER's Worker Hotline at 800-255-7688 (TTY 800-237-2515). Additional information about proper nondiscriminatory Form I-9 and E-Verify procedures is available on the IER website at https://www.justice.gov/ier and on the USCIS and E-Verify websites at https://www.uscis.gov/i-9-central and https://www.e-verify.gov.

Note Regarding Federal, State, and Local Government Agencies (Such as Departments of Motor Vehicles)

While Federal Government agencies must follow the guidelines laid out by the Federal Government, state and local government agencies establish their own rules and guidelines when granting certain benefits. Each state may have different laws, requirements, and determinations about what documents you need to provide to prove eligibility for certain benefits. Whether you are applying for a Federal, state, or local government benefit, you may need to provide the government agency with documents that show you are a TPS beneficiary and/or show you are authorized to work based on TPS. Examples of such documents are:

(1) Your current EAD;

(2) A copy of your Notice of Action (Form I-797C), the notice of receipt, for your application to renew your current EAD providing an automatic extension of your currently expired or expiring EAD;

(3) A copy of your Notice of Action (Form I-797C), the notice of receipt, for your Application for Temporary Protected Status for this re-registration; and

(4) A copy of your Notice of Action (Form I-797), the notice of approval, for a past or current Application for Temporary Protected Status, if you received one from USCIS. Check with the government agency regarding which document(s) the agency will accept. Some benefit-granting agencies use the USCIS Systematic Alien Verification for Entitlements (SAVE) program to confirm the current immigration status of applicants for public benefits. While SAVE can verify when an individual has TPS, each agency's procedures govern whether they will accept an unexpired EAD, I-797, or I-94. You should present the agency with a copy of the relevant Federal Register Notice showing the extension of TPS-related documentation in addition to your recent TPS-related document with your alien or I-94 number. You should explain that SAVE will be able to verify the continuation of your TPS. You should ask the agency to initiate a SAVE query with your information and follow through with additional verification steps, if necessary, to get a final SAVE response showing the TPS. You can also ask the agency to look for SAVE notices or contact SAVE if they have any questions about your immigration status or auto-extension of TPS-related documentation. In most cases, SAVE provides an automated electronic response to benefit-granting agencies within seconds, but, occasionally, verification can be delayed. You can check the status of your SAVE verification by using CaseCheck at the following link: https://save.uscis.gov/casecheck/, then by clicking the “Check Your Case” button. CaseCheck is a free service that lets you follow the progress of your SAVE verification using your date of birth and one immigration identifier number. If an agency has denied your application based solely or in part on a SAVE response, the agency must offer you the opportunity to appeal the decision in accordance with the agency's procedures. If the agency has received and acted upon or will act upon a SAVE verification and you do not believe the response is correct, you may make an InfoPass appointment for an in-person interview at a local USCIS office. Detailed information on how to make corrections, make an appointment, or submit a written request to correct records under the Freedom of Information Act can be found on the SAVE website at http://www.uscis.gov/save.

[FR Doc. 2019-20457 Filed 9-20-19; 8:45 am]

BILLING CODE 9111-97-P